DEPARTMENT OF JUSTICE

Antitrust Division

Notice Pursuant to the National Cooperative Research and Production Act of 1993—Allseen Alliance, Inc.

Notice is hereby given that, on July 13, 2015, pursuant to Section 6(a) of the National Cooperative Research and Production Act of 1993, 15 U.S.C. 4301 et seq. (“the Act”), AllSeen Alliance, Inc. (“AllSeen Alliance”) has filed written notifications simultaneously with the Attorney General and the Federal Trade Commission disclosing changes in its membership. The notifications were filed for the purpose of extending the Act's provisions limiting the recovery of antitrust plaintiffs to actual damages under specified circumstances. Specifically, Yifang Digital Technology Co., Ltd., Shenzhen, PEOPLE'S REPUBLIC OF CHINA; ZTE Corporaton, Shanghai, PEOPLE'S REPBULIC OF CHINA; Vodafone Group Services GmbH, Dusseldorf, GERMANY; Incognito Software Systems Inc., Vancouver, British Columbia, CANADA; Howden Joinery Group plc, London, UNITED KINGCOM; IS2T, Nantes, FRANCE; EUROICC d.o.o., Zemun, REPUBLIC OF SERBIA; Apptellect Inc., Mississauga, Ontario, CANADA; Kona S Co., Ltd., Geumcheon-gu, Seoul, REPUBLIC OF KOREA; SKIDEEV, Kowloon, HONG KONG-CHINA; CertiVox Ltd., London, UNITED KINGDOM; Appception, Inc., Mountain View, CA; Skyworth Group Co., Ltd., Shen Zhen, PEOPLE'S REPUBLIC OF CHINA; Arcelik A.S., Istanbul, TURKEY; Novatel Wireless, San Diego, CA; Granite River Labs, Santa Clara, CA; Hackster, Inc., San Francisco, CA; and International Business Machines Corporation, Austin, TX, have been added as parties to this venture.

Also, Audio Partnership Plc, London, UNITED KINGDOM; Beijing Winner Micro Electronics Co., Ltd., Beijing, PEOPLE'S REPUBLIC OF CHINA; EXO U Inc., Montreal, Quebec, CANADA; Lets GOWEX S.A., Madrid, SPAIN; Geo Semiconductor Inc., San Jose, CA; Razer USA Ltd., Carlsbad, CA; and Robert Bosh LLC, Palo Alto, CA, have withdrawn as parties to this venture.

No other changes have been made in either the membership or planned activity of the group research project. Membership in this group research project remains open, and AllSeen Alliance intends to file additional written notifications disclosing all changes in membership.

On January 29, 2014, AllSeen Alliance filed its original notification pursuant to Section 6(a) of the Act. The Department of Justice published a notice in the Federal Register pursuant to Section 6(b) of the Act on March 4, 2014 (79 FR 12223).

The last notification was filed with the Department on May 1, 2015. A notice was published in the Federal Registerpursuant to Section 6(b) of the Act on June 3, 2015 (80 FR 31618).

Patricia A. Brink,
Director of Civil Enforcement, Antitrust Division.

[FR Doc. 2015-18577 Filed 7-28-15; 8:45 am]

BILLING CODE 4410-11-P